DEPARTMENT OF TRANSPORTATION

Pipeline and Hazardous Materials Safety Administration

[Docket No. RSPA-05-20323; Notice 1]

Pipeline Safety: Petition for Waiver; Northern Natural Gas Company

AGENCY: Office of Pipeline Safety (OPS), Pipeline and Hazardous Materials Safety Administration (PHMSA), U.S. Department of Transportation (DOT).

ACTION: Notice; petition for waiver.

SUMMARY: Northern Natural Gas Company (NNG) petitioned the Office of Pipeline Safety (OPS) for a waiver from the requirements of 49 CFR 192.625(b)(3), Ordorization of gas. This section requires that a transmission line located in a Class 3 or Class 4 location that transports a combustible gas in a distribution line must contain a natural odorant or be odorized so that the gas is readily detectable by a person with a normal sense of smell unless, in the case of a lateral line which transports gas to a distribution center, at least 50 percent of the line is in a Class 1 or Class 2 location.

DATES: Persons interested in submitting written comments on the waiver request described in this Notice must do so by April 4, 2005. Late filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket. General information about the Federal pipeline safety program is available at http://ops.dot.gov.

Anyone is able to search the electronic form of all comments received into any of our dockets by the name of the individual submitting the comment (or signing the comment if submitted on behalf of an association, business, labor union, etc.).

FOR FURTHER INFORMATION CONTACT: James Reynolds by phone at 202-366-2786, by fax at 202-366-4566, by mail at DOT, PHMSA, OPS, 400 7th Street, SW., Washington, DC 20590, or by e-mail at james.reynolds@dot.gov.

SUPPLEMENTARY INFORMATION:

Background

The gas pipeline safety regulation at 49 CFR 192.625(b)(3) requires that a transmission line located in a Class 3 or Class 4 location that transports a combustible gas in a distribution line must contain a natural odorant or be ordorized so that the gas is readily detectable by a person with a normal sense of smell unless, in the case of a lateral line which transports gas to a distribution center, at least 50 percent of the line is in a Class 1 or Class 2 location.

NNG is requesting a waiver from the regulatory requirements of § 192.625(b)(3) for three of its transmission lines. The transmission lines are located in, and transport natural gas to, town border stations (TBS) located in Ripley, Iowa; LaCrescent, Minnesota; and LaCrosse, Wisconsin.

Justification

NNG is requesting the waiver for the following reasons:

• The integrity assessment of the Rippey, Iowa, LaCrescent, Minnesota, and LaCrosse, Wisconsin Branch Lines show a low likelihood of failure. The installation of odorization equipment in the road right-of-way of the Rippey, Iowa Branch Line would present a safety hazard to the public and require above ground piping. This would increase the likelihood of outside force damage to the Rippey, Iowa Branch Line.

• The take-off for the LaCrescent, Minnesota Branch Line is situated in a wetland area in the flood plain of the Mississippi River; installation of an odorizer on this line could cause an environmental impact to the river. In addition, regular maintenance and odorant delivery to the LaCrescent, Minnesota Branch Line could present a traffic hazard and the potential for a hazardous material spill in a wetland area.

• The take-off for the LaCrosse, Wisconsin Branch Line is in a low, sandy, Mississippi River flood plain area. Installation of an odorizer on this line could cause an environmental impact to the Mississippi River flood plain. Lastly, access to this line is limited. This would make it difficult to deliver odorant to the pipeline.

NNG provided the following additional information on its pipelines for consideration of its waiver request:

1. Rippey, Iowa Branch Line—IAB64601 (Mile Post (MP) 0.000-0.034)

Line IAB64601 is 2-inch in diameter, 0.034 miles (180 feet) in length, and begins at a side valve on the Perry, Iowa branch line, IAB64401. Line IAB64601 supplies gas to the town of Ripley, Iowa through the Rippey #1 TBS. This entire line is in Class 3 area.

2. LaCrescent, Minnesota Branch Line—MNB73701 (MP 0.000-0.369)

Line MNB73701 is 4-inch in diameter, 0.369 miles (1,848 feet) in length, and begins at a side valve on the LaCrosse branch line, MNB73201. Line MNB73701 is located in a wetland area that is part of the Mississippi River flood plain and supplies gas to the town of LaCrescent, Minnesota through the LaCrescent #1 TBS. Line MNB73701 is Class 1 from MP 0.000-0.051 and Class 3 from MP 0.051-0.369.

3. LaCrosse, Wisconsin Branch Line—WIB24101 (MP 0.000-0.119)

Line WIB24101 is 12-inch in diameter, 0.119 miles (628 feet) in length, and begins at a buried tap on the Tomah, Wisconsin, branch line WIB11901. Line WIB24101 supplies gas to the town of LaCrosse, Wisconsin through the LaCrosse #1 TBS. This entire line is in Class 3 area.

NNG believes it considered all practical alternatives for the placement of odorization equipment on its pipelines. They concluded that none were feasible.

Proposed Alternatives

NNG proposes the following alternatives and believes that these alternatives provide a higher level of safety than those required by the pipeline safety regulations. NNG proposes to:

• Perform leak surveys along the entire length of the Ripley, Iowa; LaCrescent, Minnesota; and LaCrosse, Wisconsin pipelines. All surveys will be performed quarterly and with leak detection equipment.

• Install and maintain additional pipeline markers along each pipeline.

OPS Review

OPS is publishing this notice in the Federal Register to provide an opportunity for public comment. After OPS has considered any comments it receives in response to this Notice, it will make a final determination granting or denying the waiver as proposed, or with modifications. If the waiver is granted, and OPS subsequently determines that the effect of the waiver is no longer consistent with pipeline safety, OPS may revoke the waiver at its sole discretion. This Notice is OPS's only request for public comment before making its final decision in this matter. At the conclusion of the comment period, OPS will make a determination on the proposed waiver and publish its decision in the Federal Register.

Authority: 49 U.S.C. 60118 (c) and 49 CFR 1.53.

Issued in Washington, DC, on February 25, 2005.
Theodore L. Willke,
Deputy Associate Administrator for Pipeline Safety.

[FR Doc. 05-4124 Filed 3-2-05; 8:45 am]

BILLING CODE 4910-60-P